ENVIRONMENTAL PROTECTION AGENCY

40 CFR Part 52

[EPA-R08-OAR-2025-0054; FRL-12595-02-R8]

Air Plan Approval; Utah; Interstate Transport of Air Pollution for the 2008 8-Hour Ozone National Ambient Air Quality Standard

AGENCY: Environmental Protection Agency (EPA).

ACTION: Final rule.

SUMMARY: The Environmental Protection Agency (EPA) is approving a portion of a Utah State Implementation Plan (SIP) submission addressing interstate transport for the 2008 8-hour ozone national ambient air quality standard (NAAQS). The “interstate transport” provision requires that each state's SIP contain adequate provisions to prohibit emissions from within the state from significantly contributing to nonattainment or interfering with maintenance of the NAAQS in other states. In this action, the EPA is only addressing the requirement prohibiting interference with maintenance, referred to as “prong 2,” for the 2008 ozone NAAQS.

DATES: This rule is effective on December 10, 2025.

ADDRESSES: The EPA has established a docket for this action under Docket ID No. EPA-R08-OAR-2025-0054. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Adam Clark, Air and Radiation Division, EPA, Region 8, Mailcode 8ARD-IO, 1595 Wynkoop Street, Denver, Colorado 80202-1129, telephone number: (303) 312-7104, email address: clark.adam@epa.gov.

SUPPLEMENTARY INFORMATION: Throughout this document whenever “we,” “us,” or “our” is used, we mean EPA.

Table of Contents

I. Background

II. Response to Comments

III. Final Action

IV. Statutory and Executive Order Reviews

I. Background

The background for this action is discussed in detail in our June 18, 2025 proposal (90 FR 25918). In that document we proposed to approve Utah's January 29, 2020 SIP submission as meeting the prong 2 interstate transport requirement of Clean Air Act (CAA) section 110(a)(2)(D)(i)(I) for the 2008 ozone NAAQS.

The EPA provided a 30-day review and comment period for the June 18, 2025 proposal. We received two comments. The first commenter was the Utah Division of Air Quality (UDAQ), and the second was anonymous. A summary of these comments and the EPA's responses are provided in section II. A full copy of the comments is included in the docket for this rule.

II. Response to Comments

Comment: UDAQ expressed support for the proposal and encouraged the EPA to finalize the approval of Utah's SIP submission as proposed.

Response: The EPA acknowledges and appreciates the comment in support of this rulemaking action.

Comment: UDAQ stated that the pathway leading to the EPA's proposed approval has been a long and complex history of revisions and disagreements between the state of Utah and the EPA dating back to 2013. UDAQ stated that much of this history could have been avoided had the EPA worked more cooperatively with the state in approving its December 22, 2015 revision, which the commenter asserts demonstrated that the State did not significantly contribute to nonattainment or interfere with the maintenance of the 2008 ozone standard in downwind states. UDAQ asserted that this delay led to an extended period of regulatory uncertainty and risk, and that the action being driven by a court ordered consent decree ¹ demonstrates the need for the EPA to work closely with states and finalize actions more expeditiously.

¹ 90 FR 25920 (June 18, 2025).

Response: The EPA agrees that Utah's interstate transport prong 2 SIP for the 2008 ozone NAAQS has a complex history. That history is discussed in the proposal and will not be restated here.² The EPA also agrees that it is important that we work closely with states and act on SIP submissions in line with the requirements of the CAA.³

² 90 FR 25918 (June 18, 2025).

³ CAA section 110(k)(2).

Comment: UDAQ stated that the EPA's inclusion of Utah in the Federal “Good Neighbor Plan” for the 2015 ozone NAAQS was unwarranted and erroneous.

Response: The CAA section 110(a)(2)(D)(i)(I) interstate transport actions addressing the 2015 ozone NAAQS are outside the scope of this action, which only addresses the 2008 ozone NAAQS portion of Utah's 2020 SIP submission.

Comment: One anonymous commenter recommended the EPA not approve Utah's air quality plan. The commenter stated that the Utah government had failed to clean the air, and that it is necessary to limit movement for the elderly and keep children indoors during periods of poor air quality.

Response: The EPA acknowledges the comment. However, the EPA does not find the comment sufficiently specific or relevant to the action we are taking today on Utah's 2020 submission as to warrant a specific response.

III. Final Action

The EPA is approving Utah's January 29, 2020 SIP submission as meeting the prong 2 interstate transport requirement of CAA section 110(a)(2)(D)(i)(I) for the 2008 ozone NAAQS.

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and EPA will submit a rule report to each House of the Congress and to the Comptroller General of the United States. This action is not a “major rule” as defined by 5 U.S.C. 804(2).

Under section 307(b)(1) of the CAA, petitions for judicial review of this action must be filed in the United States Court of Appeals for the appropriate circuit by January 9, 2026. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 29, 2025.
Cyrus M. Western,
Regional Administrator, Region 8.

For the reasons stated in the preamble, the Environmental Protection Agency is amending 40 CFR part 52 as follows:

PART 52—APPROVAL AND PROMULGATION OF IMPLEMENTATION PLANS

1. The authority citation for part 52 continues to read as follows:

Authority: 42 U.S.C. 7401 et seq.

Subpart TT—Utah

2. Amend § 52.2354 by adding paragraph (e) to read as follows:

§ 52.2354 Interstate transport.

* * * * *

(e) Addition to the Utah State Implementation Plan regarding the 2008 ozone Standard for CAA section 110(a)(2)(D)(i)(I) prong 2 submitted to EPA on January 29, 2020.

[FR Doc. 2025-19824 Filed 11-7-25; 8:45 am]

BILLING CODE 6560-50-P